DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

DATES: The date of December 16, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Shasta County, California and Incorporated Areas
Docket No.: FEMA-B-2051
Unincorporated Areas of Shasta County | Shasta County Resource Management & Public Works Building, 1855 Placer Street, Redding, CA 96001.
Coahoma County, Mississippi and Incorporated Areas
Docket Nos.: FEMA-B-1946 and FEMA-B-2060
City of Clarksdale | City Hall, City Clerk's Office, 121 Sunflower Avenue, Clarksdale, MS 38614.
Town of Friar's Point | Town Hall, 700 2nd Street, Friar's Point, MS 38631.
Unincorporated Areas of Coahoma County | Coahoma County Courthouse, 115 1st Street, Clarksdale, MS 38614.
Ocean County, New Jersey (All Jurisdictions)
Docket No.: FEMA-B-1471
Township of Stafford | Stafford Township Municipal Building, 260 East Bay Avenue, Manahawkin, NJ 08050.
Horry County, South Carolina and Incorporated Areas
Docket No.: FEMA-B-1550 and FEMA-B-2017
City of Conway | Building Department, 206 Laurel Street, Conway, SC 29526.
City of Loris | City Hall, 4101 Walnut Street, Loris, SC 29569.
City of Myrtle Beach | City Services Building, 921 North Oak Street, Myrtle Beach, SC 29577.
City of North Myrtle Beach | City Hall, 1018 2nd Avenue South, North Myrtle Beach, SC 29582.
Town of Atlantic Beach | Town Hall, 717 30th Avenue South, Atlantic Beach, SC 29582.
Town of Briarcliffe Acres | Horry County Government Center, 1301 2nd Avenue, Conway, SC 29526.
Town of Surfside Beach | Planning, Building, and Zoning Department, 115 Highway 17 North, Surfside Beach, SC 29575.
Unincorporated Areas of Horry County | Horry County Government Center, 1301 2nd Avenue, Conway, SC 29526.
Orange County, Texas and Incorporated Areas
Docket Nos.: FEMA-B-1322 and FEMA-B-2048
City of Bridge City | City Hall, 260 Rachal Avenue, Bridge City, TX 77611.
City of Orange | Planning and Community Development, 303 North 8th Street, Orange, TX 77630.
City of Pine Forest | Pine Forest City Hall, 305 Nagel Street, Vidor, TX 77662.
City of Pinehurst | Pinehurst City Hall and Municipal Court, 2497 Martin Luther King Jr. Drive, Orange, TX 77630.
City of Rose City | City Hall, 370 South Rose City Drive, Rose City, TX 77662.
City of Vidor | City Hall, 1395 North Main Street, Vidor, TX 77662.
City of West Orange | City Hall, 2700 Western Avenue, West Orange, TX 77630.
Unincorporated Areas of Orange County | Orange County Environmental Health and Code Compliance Department, 11475 FM 1442, Orange, TX 77630.

[FR Doc. 2021-19214 Filed 9-3-21; 8:45 am]

BILLING CODE 9110-12-P